DEPARTMENT OF COMMERCE

International Trade Administration

Commercial Service—Strategic User Satisfaction Survey

ACTION: Proposed information collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506 (2) (A)).

DATES: Written comments must be submitted on or before June 18, 2007.

ADDRESSES: Direct all written comments to Diana Hynek, Departmental Paperwork Clearance Officer, Department of Commerce, Room 6625, 14th and Constitution Avenue, NW., Washington, DC 20230 or via the Internet at dHynek@doc.gov.

FOR FURTHER INFORMATION CONTACT: Request for additional information or copies of the information collection instrument and instructions should be directed to: Joseph Carter, 14th and Constitution Avenue, NW., Washington, DC 20230; Phone number: (202) 482-3342; E-mail: joseph.carter@mail.doc.gov.

SUPPLEMENTARY INFORMATION:

I. Abstract

The International Trade Administration's U.S. Commercial Service (CS) is mandated by Congress to help U.S. businesses, particularly small and medium-sized companies, export their products and services to global markets. As part of its mission, the CS currently uses transactional user satisfaction surveys to collect feedback from U.S. business clients that use CS pay-for-use products/events provided by the organization's international offices. These surveys ask the client to evaluate the CS on its customer service delivery for a specific transaction. The results from these transactional user satisfaction surveys are used to ensure that clients' needs and expectations are met and service delivery is consistent across the organization. In addition to conducting user satisfaction surveys on a transactional basis for pay-for-use products/events provided by the CS's international offices, the CS would like to conduct a strategic user satisfaction survey on an annual basis to collect more in-depth user satisfaction feedback from CS clients in order to assess the importance or relative impact of specific service delivery processes and attributes on overall customer satisfaction. Survey responses would enable the CS to prioritize the allocation of time, budget and resources using performance-importance diagrams. Without this information, CS is unable to systematically determine the actual and relative levels of performance for attributes, processes and subprocesses, identify the drivers or determinants of overall satisfaction, and provide clear, actionable insights for managerial intervention. This information will be used for program improvement, strategic planning, and allocation of resources.

II. Method of Collection

The data collection method for the CS is an e-mail message delivering a hot link to a web-enabled survey. If the client does not respond to the survey within two weeks, another e-mail reminder is sent to the client.

III. Data

OMB Number: None.

Form Number: None.

Type of Review: Regular submission.

Affected Public: Business or other for-profit organizations.

Estimated Number of Respondents: 1,500.

Estimated Time per Response: 30 minutes.

Estimated Total Annual Burden Hours: 750.

Estimated Total Annual Costs: $45,000.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: April 11, 2007.
Gwellnar Banks,
Management Analyst, Office of the Chief Information Officer.

[FR Doc. E7-7209 Filed 4-16-07; 8:45 am]

BILLING CODE 3510-FP-P